DEPARTMENT OF THE INTERIOR

Bureau of Land Management

[LLNML03100 L51010000.ER0000 LVRWG0460000; NMNM-115773]

Notice of Availability of the Draft Environmental Impact Statement for the Alamogordo Regional Water Supply Project, New Mexico

AGENCY: Bureau of Land Management, Interior.

ACTION: Notice of Availability.

SUMMARY: In accordance with the National Environmental Policy Act of 1969 as amended (NEPA), the Bureau of Land Management (BLM) has prepared a Draft Environmental Impact Statement (EIS) for the Alamogordo Regional Water Supply Project and by this notice is announcing the opening of the comment period.

DATES: To ensure that comments will be considered, the BLM must receive written comments on the Alamogordo Regional Water Supply Project Draft EIS within 60 days following the date the Environmental Protection Agency publishes this Notice of Availability in the Federal Register. The BLM will announce future meetings or hearings and any other public involvement activities at least 15 days in advance through public notices, media releases, and/or mailings.

ADDRESSES: You may submit comments related to the Alamogordo Regional Water Supply Project by any of the following methods:

• E-mail: nmlcdo_comments@blm.gov.

• Fax: 575-525-4412.

• Mail: Bureau of Land Management, Alamogordo Regional Water Supply Project, Attention: Lorraine Salas, Project Manager, 1800 Marquess Street, Las Cruces, NM 88005.

Copies of the Alamogordo Regional Water Supply Project Draft EIS are available in the BLM Las Cruces District Office at the above address; the BLM New Mexico State Office, 301 Dinosaur Trail, Santa Fe, NM; the City of Alamogordo Public Library, 920 Oregon Avenue, Alamogordo, NM; the Village of Tularosa Public Library, 515 Fresno Street, Tularosa, NM.

FOR FURTHER INFORMATION CONTACT: Lorraine Salas, Project Manager; telephone 575-525-4388; address 1800 Marquess Street, Las Cruces, NM 88005; e-mail: nmlcdo_comments@blm.gov.

SUPPLEMENTARY INFORMATION: The City of Alamogordo (the City) has submitted to the BLM an application for a right-of-way (ROW) for the construction and use of up to 10 groundwater wells in order to produce approximately 4,000 acre-feet per year of water with supporting infrastructure on BLM-managed public land. Under the Federal Land Policy and Management Act of 1976, as amended, and supported by NEPA analysis, the BLM will decide whether to grant the ROW or grant the ROW with modifications, and, if so, under what terms and conditions. The BLM is the lead Federal agency for this EIS. Cooperating agencies include the Bureau of Reclamation (BOR) and Otero County.

In 1983, a study concluded that the City's long-term water supply is inadequate and that critical water shortages could occur should the region experience a prolonged drought. The study concluded that the City's projected water demand is 10,842 acre-feet per year (afy) through the year 2045. In response to the study, the City obtained water rights through the New Mexico Office of the State Engineer (State Engineer) and has approached the BLM for a ROW to withdraw water on BLM-managed public land with supporting infrastructure.

The City seeks to address the water demand through the desalination of brackish groundwater located in the Tularosa Underground Water Basin. The proposed wells would be drilled on BLM-managed public land located 26 miles north of the City. The BOR will decide whether to seek and approve funding for a portion of the project costs through BOR's budget under Title XVI, Public Law 102-575, as amended—the Reclamation Wastewater and Groundwater Facilities Act; 43 U.S.C. § 39h, provides authority for the BOR water recyling and reuse program.

The Draft EIS addresses the direct, indirect, and cumulative environmental impacts of two alternatives. The proposed action (Alternative B) by the City includes obtaining unappropriated brackish groundwater from the Snake Tank Well Field, constructing and operating 10 groundwater wells at Snake Tank Well Field, installing water transmission lines to Alamogordo, and constructing a desalination facility and a booster pump station in Alamogordo to treat the brackish groundwater to drinking water standards. This alternative has been developed to incorporate the State Engineer ruling, which was affirmed by the New Mexico State District Court to allow 4,000 afy of brackish groundwater (approximately 3,200 afy of potable water) from the Snake Tank Well Field and up to 5,000 acre-feet in any one year so long as withdrawals do not exceed 20,000 acre-feet in any 5-year period. The remaining future water supply (198 afy) would have to come from other sources, all of which are undetermined, and are not part of the Draft EIS.

Alternative A is the “No Action” Alternative, as required by NEPA. The No Action Alternative describes conditions expected to occur if there would be no new well field development or additional water supply beyond the City's current water supply. The No Action Alternative assumes the City would continue to enforce water conservation measures and use existing infrastructure. Since the publication of the Notice of Intent to prepare an EIS in the Federal Register on August 26, 2004, scoping meetings and mailings have been conducted to solicit public comment and identify key issues. Tribal governments with interest in this project were also contacted.

Approximately 216 scoping comments were received during the development of the Draft EIS. Key issues identified by individuals, groups, and governmental entities include: Balancing growth with water use in the Alamogordo/Tularosa region; groundwater draw-down in existing residential wells and mitigation measures for any impacts to those wells; potential social and economic impacts on ranching and agriculture in the region; and potential impacts on Indian trust land, community acequias, and surface water.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Bill Childress,
District Manager, Las Cruces.

[FR Doc. 2010-20564 Filed 8-19-10; 8:45 am]

BILLING CODE 4310-VC-P